DEPARTMENT OF AGRICULTURE

Agricultural Marketing Service

7 CFR Part 29

[Docket No. TB-00-23]

Tobacco Inspection; Growers' Referendum Results

AGENCY: Agricultural Marketing Service, USDA.

ACTION: Final rule.

SUMMARY: This document contains the determination with respect to the referendum on the merger of Fairmont-Fair Bluff, North Carolina and Loris, South Carolina, to become the consolidated market of Fairmont-Fair Bluff-Loris. A mail referendum was conducted during the period of June 4-8, 2001, among tobacco growers who sold tobacco on these markets in 2000 to determine producer approval/disapproval of the designation of these markets as one consolidated market. Therefore, for the 2001 and succeeding flue-cured marketing seasons, the Fairmont-Fair Bluff, North Carolina and Loris, South Carolina, tobacco markets shall be designated as Fairmont-Fair Bluff-Loris. The regulations are amended to reflect this new designated market.

EFFECTIVE DATE: October 22, 2001.

FOR FURTHER INFORMATION CONTACT: William O. Coats, Associate Deputy Administrator, Tobacco Programs, Agricultural Marketing Service, United States Department of Agriculture, Stop 0280, 1400 Independence Avenue, SW., Washington, DC 20250-0280; telephone number (202) 205-0508.

SUPPLEMENTARY INFORMATION: A notice was published in the May 2, 2001, issue of the Federal Register (66 FR 21888) announcing that a referendum would be conducted among active flue-cured producers who sold tobacco on either Fairmont-Fair Bluff or Loris during the 2000 season to ascertain if such producers favored the consolidation.

The notice of referendum announced the determination by the Secretary that the consolidated market of Fairmont-Fair Bluff and Loris, would be designated as a flue-cured tobacco auction market and receive mandatory Federal grading of tobacco sold at auction for the 2001 and succeeding seasons, subject to the results of the referendum. The determination was based on the evidence and arguments presented at a public hearing held in, Tabor City, North Carolina, on November 9, 2000, pursuant to applicable provisions of the regulations issued under the Tobacco Inspection Act, as amended. The referendum was held in accordance with the provisions of the Tobacco Inspection Act, as amended (7 U.S.C. 511d) and the regulations set forth in 7 CFR 29.74.

Ballots for the June 4-8, 2001, referendum were mailed to 935 producers. Approval required votes in favor of the proposal by two-thirds of the eligible voters who cast valid ballots. The Department received a total of 213 responses: 168 eligible producers voted in favor of the consolidation; 16 eligible producers voted against the consolidation; and 29 ballots were determined to be invalid.

The Department of Agriculture is issuing this rule in conformance with Executive Order 12866.

This final rule has been reviewed under Executive Order 12988, Civil Justice Reform. This action is not intended to have retroactive effect. The final rule will not exempt any State or local laws, regulations, or policies, unless they present an irreconcilable conflict with this rule. There are no administrative procedures which must be exhausted prior to any judicial challenge to the provisions of this rule.

Additionally, in conformance with the provisions of the Regulatory Flexibility Act (5 U.S.C. 601 et seq.), full consideration has been given to the potential economic impact upon small business. All tobacco warehouses and producers fall within the confines of “small business” which are defined by the Small Business Administration (13 CFR 121.201) as those having annual receipts of less that $500,000, and small agricultural service firms are defined as those whose annual receipts are less that $3,500,000. There are approximately 190 tobacco warehouses and approximately 30,000 producers. This action will not substantially affect the normal movement of the commodity in the marketplace. It has been determined that this action will not have a significant impact on a substantial number of small entities.

It is hereby found and determined that good cause exists for not postponing the effective date of this rule until 30 days after publication in the Federal Register because the 2001 flue-cured marketing season will begin about July 24 and this action is needed as soon as possible to establish the sales schedule for the season.

List of Subjects in 7 CFR Part 29

Administrative practices and procedures, Advisory committees, Government publications, Imports, Pesticides and pests, Reporting and recordkeeping procedures, Tobacco.

For the reasons set forth in the preamble, 7 CFR part 29 is amended as follows:

PART 29—TOBACCO INSPECTION

Subpart D—Order of Designation of Tobacco Markets

1. The authority citation for 7 CFR part 29, Subpart D, continues to read as follows:

Authority: Sec. 5, 49 Stat, 732, as amended, by Sec. 157(a)(1), 95 Stat. 374 (7 U.S.C. 511d).

2. In § 29.8001, the table is amended by adding a new entry (qqq) to read as follows:

§ 29.8001 Designation of tobacco markets.

* * * * *

Designated Tobacco Markets
Territory | Types of tobacco | Auction markets | Order of designation | Citation
* * * * * * *
(qqq) North Carolina, South Carolina | Flue-Cured | Fairmont-Fair Bluff-Loris | October 22, 2001 | 66 FR 53076.

Dated: October 12, 2001.
Kenneth C. Clayton,
Associate Administrator, Agricultural Marketing Service.

[FR Doc. 01-26393 Filed 10-18-01; 8:45 am]

BILLING CODE 3410-02-P